NATIONAL SCIENCE FOUNDATION

Special Emphasis Panel in Bioengineering and Environmental Systems; Meeting

In accordance with the Federal Advisory Committee Act (Pub. L. 92-463, as amended) the National Science Foundation announces the following meeting.

Name: Special Emphasis Panel in Bioengineering and Environmental Systems (1189); Workshop on Quantitative Systems Biology.

Date and Time: Sept. 13, 2000; 8:30 a.m.-5:00 p.m., Sept. 14, 2000; 8:30 a.m.-12:00 p.m.

Place: Room 110, NSF, 4201 Wilson Blvd, Arlington, VA (Room 580 on 9/14).

Type of Meeting: Open.

Contact Person: Michael Domach, Program Director, Division of Bioengineering and Environmental Systems, National Science Foundation, Suite 565, 4201 Wilson Boulevard, Arlington, VA 22230; Telephone: (703) 292-8320. For easier building access, individuals planning to attend should contact Marcia Rawlings at 703-292-8320 or at mrawlings@nsf.gov so that your name can be added to the building access list.

Minutes: May be obtained from the contact person listed above.

Purpose of Meeting: To identify goals, opportunities and specific objectives for a new NSF research funding initiative in quantitative systems biology.

Agenda: Discussion on issues, opportunities, and future directions for quantitative systems biology, particularly systems (engineering) approaches to and applications for predicting the phenotypic behavior of a living organism from the genomic information being generated for that organism and the well defined environmental conditions that cause the expression of that genome.

Dated: August 18, 2000.
Karen J. York,
Committee Management Officer.

[FR Doc. 00-21552 Filed 8-22-00; 8:45 am]

BILLING CODE 7555-01-M